DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before April 11, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on March 05, 2019.
Donald P. Burger,
Chief, General Approvals and Permits Branch.

Special Permits Data—Granted
Application No. | Applicant | Regulation(s) affected | Nature of the special permits thereof
7945-M | MEGGITT SAFETY SYSTEMS, INC | 173.304a(a)(1) | To modify the special permit to authorize additional Class 2.2 hazmat to the permit.
10511-M | SCHLUMBERGER TECHNOLOGY CORP | 173.304a | To modify the special permit to authorize a new pressure housing for transporting hazmat.
12899-M | CORE LABORATORIES L.P. | 173.301(f), 173.302a(a), 173.304a(a), 173.304a(d), 173.201(c), 173.202(c), 173.203(c), 175.3 | To modify the special permit to authorize an alternative to marking the necks of cylinders.
14574-M | KMG ELECTRONIC CHEMICALS, INC | 180.407(c), 180.407(e), 180.407(f) | To modify the special permit to authorize an additional cargo tank wagon.
20576-N | Cylinder Testing Solutions LLC | 172.203(a), 172.301(c), 180.205 | To authorize the use of Specification DOT 3AL cylinders used for the transportation in commerce of certain compressed gases, when retested by a 100% ultrasonic examination in lieu of the internal visual and the hydrostatic retest required in 49 CFR 180.205.
20654-N | JOHNSON CONTROLS ADVANCED POWER SOLUTIONS, LLC | 173.185(a) | To authorize the transportation in commerce of prototype and low production lithium ion batteries via cargo-only aircraft.
20661-M | SAFT AMERICA INC | 172.400, 172.300, 173.301(g), 173.302a(a)(1), 173.185(b) | To modify the special permit to authorize the use of batteries not manufactured by Saft in the battery assemblies, and an increase in the maximum rated energy capacity permitted for the containerized battery assembly, that references to the UN Test Manual be updated to take account of the January 1, 2019, effective date of Amendment 1 to the Sixth Revised edition under international regulations. (modes 1,3). Some editorial corrections in the SP are also requested.
20705-N | EXHAUST CENTER, INC | 177.834(h), 178.700(c)(1) | To authorize the manufacture, mark, sale, and use of non-DOT specification steel IBCs conforming to the requirements of UN31A except for capacity.
20706-N | SOUTHERN STATES, LLC | 172.301(c), 173.304(a) | To authorize the transportation in commerce of non-DOT specification cylinders containing compressed sulfur hexafluoride gas.
20789-N | FEDERAL EXPRESS CORPORATION | 172.400(a)(1), 172.202(a)(7), 172.300(a), 173.302(f)(3), 173.302(f)(4), 173.302(f)(5), 173.309(c)(5), 173.168(d)(1), 173.168(e), 175.8(a)(3), 175.30 | To authorize the transportation in air commerce of hazardous materials by cargo aircraft installed in a Crew Rest Module (CRM).
20819-N | THE GREENBRIER COMPANIES | 173.240 | To authorize the transportation in commerce of low hazard solid materials in DOT 117 tank cars.
20823-N | ARKEMA INC | 173.22 | To authorize the transportation of drums of Methane Sulfonic Acid in drums with possibly defective valves.
20825-N | SPACE EXPLORATION TECHNOLOGIES CORP | 172.400, 172.300, 173.302a(a)(1) | To authorize the transportation in commerce of satellites containing non-DOT specification cylinder which are not marked and labeled in accordance with Part 172.
20832-N | ECOGREEN INDUSTRIES, LLC | 173.301(j), 173.22(a), 178.35(f) | To authorize the one-way transportation in commerce of certain materials in non-DOT specification cylinders to a safe site where the contents can be transferred to specification cylinders.

Special Permits Data—Denied
Application No. | Applicant | Regulation(s) affected | Nature of the special permits thereof
20680-N | ROTAREX, INC. NORTH AMERICA | 173.309(a) | To authorize the transportation in commerce of non-DOT specification cylinders for use as fire extinguishers.

[FR Doc. 2019-04452 Filed 3-11-19; 8:45 am]

BILLING CODE 4909-60-P